DEPARTMENT OF AGRICULTURE

Agricultural Marketing Service

7 CFR Part 945

[Doc. No. AMS-FV-10-0109; FV11-945-1]

Irish Potatoes Grown in Certain Designated Counties in Idaho, and Malheur County, Oregon; Continuance Referendum

AGENCY: Agricultural Marketing Service, USDA.

ACTION: Referendum order.

SUMMARY: This document directs that a referendum be conducted among eligible producers of Irish potatoes in certain designated counties in Idaho, and Malheur County, Oregon, to determine whether they favor continuance of the marketing order regulating the handling of Irish potatoes grown in the production area.

DATES: The referendum will be conducted from March 5 to March 18, 2011. To vote in this referendum, producers must have produced Irish potatoes for the fresh market within the designated production area in Idaho, or Malheur County, Oregon, during the period August 1, 2009, through July 31, 2010.

ADDRESSES: Copies of the marketing order may be obtained from the office of the referendum agents at 805 SW Broadway, Suite 930, Portland, OR 97205, or the Office of the Docket Clerk, Marketing Order Administration Branch, Fruit and Vegetable Programs, AMS, USDA, 1400 Independence Avenue, SW., STOP 0237, Washington, DC 20250-0237.

FOR FURTHER INFORMATION CONTACT: Barry Broadbent or Gary Olson, Northwest Marketing Field Office, Marketing Order Administration Branch, Fruit and Vegetable Programs, AMS, USDA, 805 SW Broadway, Suite 930, Portland, OR 97205; Telephone: (503) 326-2724, Fax: (503) 326-7440, or E-mail: Barry.Broadbent@ams.usda.gov or GaryD.Olson@ams.usda.gov.

SUPPLEMENTARY INFORMATION: Pursuant to Marketing Order No. 945 (7 CFR part 945), hereinafter referred to as the “order,” and the applicable provisions of the Agricultural Marketing Agreement Act of 1937, as amended (7 U.S.C. 601-674), hereinafter referred to as the “Act,” it is hereby directed that a referendum be conducted to ascertain whether continuance of the order is favored by the producers. The referendum shall be conducted from March 5 to March 18, 2011, among eligible Irish potato producers in the production area. Only producers that were engaged in the production of Irish potatoes for the fresh market in Idaho, and Malheur County, Oregon, during the period of August 1, 2009, through July 31, 2010, may participate in the continuance referendum.

USDA has determined that continuance referenda are an effective means for determining whether producers favor continuation of marketing order programs. USDA would consider termination of the order if less than two-thirds of producers voting in the referendum and producers of less than two-thirds of the volume of Irish potatoes represented in the referendum favor continuance. In evaluating the merits of continuance versus termination, USDA will not exclusively consider the results of the continuance referendum. USDA will also consider all other relevant information concerning the operation of the order and the relative benefits and disadvantages to producers, handlers, and consumers in order to determine whether continued operation of the order would tend to effectuate the declared policy of the Act.

In accordance with the Paperwork Reduction Act of 1995 (44 U.S.C. chapter 35), the ballot materials to be used in the referendum herein ordered have been submitted to and approved by the Office of Management and Budget (OMB) and have been assigned OMB No. 0581-0178—Vegetable and Specialty Crop Marketing Orders. It has been estimated that it will take an average of 20 minutes for each of the approximately 990 producers of Irish potatoes in Idaho and Malheur County, Oregon, to cast a ballot. Participation is voluntary. Ballots postmarked after March 18, 2011, will not be included in the vote tabulation.

Barry Broadbent and Gary Olson of the Northwest Marketing Field Office, Fruit and Vegetable Programs, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all producers of record and may also be obtained from the referendum agents, or from their appointees.

List of Subjects in 7 CFR Part 945

Irish potatoes, Marketing agreements, Reporting and recordkeeping requirements.

Authority: 7 U.S.C. 601-674.

Dated: January 19, 2011.
Rayne Pegg,
Administrator, Agricultural Marketing Service.

[FR Doc. 2011-1424 Filed 1-24-11; 8:45 am]

BILLING CODE 3410-02-P